DEPARTMENT OF THE INTERIOR

Bureau of Reclamation

[A20-0805-4999-400-00-0-0-2, 2100000]

Resource Management Plan/General Plan and Environmental Impact Statement/Environmental Impact Report for the San Luis Reservoir State Recreation Area, Merced County, California

AGENCY: Bureau of Reclamation, Interior.

ACTION: Notice of availability.

SUMMARY: The Bureau of Reclamation and the California Department of Parks and Recreation (CDPR) have prepared a Final Environmental Impact Statement/Environmental Impact Report (EIS/EIR) for the San Luis Reservoir State Recreation Area Resource Management Plan/General Plan (RMP/GP). The Final EIS/EIR describes and presents the environmental effects of the No Action/No Project Alternative and three Action Alternatives for implementing the RMP/GP.

A Notice of Availability of the Draft EIS/EIR was published in the Federal Register on August 3, 2012 (77 FR 46518). The comment period on the Draft EIS/EIR ended on October 2, 2012. The Final EIS/EIR contains responses to all comments received and reflects comments and any additional information received during the review period.

DATES: Reclamation will not make a decision on the proposed action until at least 30 days after release of the Final EIS/EIR. After the 30-day waiting period, Reclamation will complete a Record of Decision (ROD). The ROD will state the action that will be implemented and will discuss all factors leading to the decision.

The California State Parks and Recreation Commission Hearing on the Final EIS/EIR will be held in August 2013. A Notice of Determination will be filed after the Commission Hearing. This action will trigger a 30-day appeal period under CEQA.

ADDRESSES: Send requests for a compact disc copy of the Final EIS/EIR to Mr. Dave Woolley, Bureau of Reclamation, 1243 N Street, Fresno, CA 93721, or by email to dwoolley@usbr.gov.

The Final EIS/EIR is also accessible from the following Web site: http://www.usbr.gov/mp/nepa/nepa_projdetails.cfm?Project_ID=548. See the Supplementary Information section below for locations where copies of the Final RMP/GP EIS/EIR are available for public review.

FOR FURTHER INFORMATION CONTACT: Mr. Dave Woolley, Bureau of Reclamation, at 559-487-5049 (TTY 1-800-735-2929) or dwoolley@usbr.gov.

SUPPLEMENTARY INFORMATION: The Final EIS/EIR analyzes the direct, indirect, and cumulative effects to the physical, biological, and socioeconomic environment that may result from various resource management alternatives contained in the subject document.

The Final EIS/EIR: (1) Identifies the current and most appropriate future uses of land and water resources within the RMP/GP area; (2) identifies the long-term resource programs and implementation guidelines to manage and develop recreation, natural, and cultural resources; and (3) develops strategies and approaches to protect and preserve the natural, recreational, aesthetic, and cultural resources.

The RMP/GP was initially released with a Draft EIR in 2005 for compliance with the California Environmental Quality Act (CEQA). The RMP/GP was reissued with a joint Draft EIS/Revised Draft EIR for the purposes of both National Environmental Policy Act and CEQA compliance.

The RMP/GP area consists of over 27,000 acres owned by the Bureau of Reclamation (Reclamation) and includes the water surfaces of San Luis Reservoir, O'Neill Forebay, Los Banos Creek Reservoir, and adjacent recreation lands within the vicinity of Los Banos, California. The general project location is south of State Route 152 between U.S. 101 and Interstate 5, approximately two hours southeast from San Francisco.

San Luis Reservoir and the other facilities mentioned above were constructed between 1963 and 1967 as part of the water storage and delivery system of reservoirs, aqueducts, power plants, and pumping stations operated within the California State Water Project and Central Valley Project. The California Department of Parks and Recreation was given the responsibility to plan, design, construct, maintain, and operate the recreation areas surrounding the reservoirs.

The purpose of the RMP/GP is to: (1) Enhance natural resources and recreational opportunities consistent with reservoir operations; (2) provide recreational opportunities to meet the demands of a growing population with diverse interests; (3) ensure diversity of recreational opportunities and quality of the recreational experience; (4) protect natural, cultural, and recreational sources while providing resource education opportunities and stewardship; and (5) provide updated management direction for establishing a new management agreement with the State of California.

The Final EIS/EIR contains a program-level analysis of the potential impacts associated with adoption of the RMP/GP. The Final EIS/EIR outlines the formulation and evaluation of alternatives designed to address these issues through a representation of the varied interests at the Plan Area and identifies Alternative 3 (Moderate New Access and Development) as the preferred alternative. The Final EIS/EIR includes goals, guidelines, and management actions to avoid and minimize potential impacts, as well as mitigation measures to reduce potential adverse effects. The RMP/GP has been developed within the authorities provided by Congress through the Reclamation Recreation Management Act of 1992 (Pub. L. 102-575, Title 28, 16 U.S.C. 460L) and other applicable agency and Department of the Interior policies.

Copies of the Final EIS/EIR are available for public review at the following locations:

• Bureau of Reclamation, Mid-Pacific Region, Regional Library, 2800 Cottage Way, Sacramento, CA 95825.

• Bureau of Reclamation, South-Central California Area Office, 1243 N Street, Fresno, CA 93721.

• California Department of Parks and Recreation, Four Rivers Sector Office, 31426 Gonzaga Road, Gustine, CA 95322.

• Los Banos Library, 1312 South 7th Street, Los Banos, CA 93635.

• California Department of Parks and Recreation, Northern Service Center, One Capitol Mall, Suite 410, Sacramento, CA 95814.

• Bureau of Reclamation, Denver Office Library, Building 67, Room 167, Denver Federal Center, 6th and Kipling, Denver, CO 80225.

• Natural Resources Library, U.S. Department of the Interior, 1849 C Street NW., Main Interior Building, Washington, DC 20240-0001.

Public Disclosure

Before including your address, phone number, email address, or other personal identifying information in any correspondence, you should be aware that your entire correspondence—including your personal identifying information—may be made publicly available at any time. While you can ask us in your correspondence to withhold your personal identifying information from public review, we cannot guarantee that we will be able to do so.

Dated: April 29, 2013.
Pablo R. Arroyave,
Deputy Regional Director, Mid-Pacific Region.

[FR Doc. 2013-15051 Filed 6-21-13; 8:45 am]

BILLING CODE 4310-MN-P